DEPARTMENT OF COMMERCE

National Oceanic and Atmospheric Administration

50 CFR Parts 600 and 660

[Docket No. 991223347-9347; I.D. 042600B]

Fisheries off West Coast States and in the Western Pacific; Pacific Coast Groundfish Fishery; Trip Limit Adjustments

AGENCY: National Marine Fisheries Service (NMFS), National Oceanic and Atmospheric Administration (NOAA), Commerce.

ACTION: Fishing restrictions; request for comments.

SUMMARY: This document clarifies tables 2,3,4, and 5 for Pacific Coast groundfish species and trip limits that were published in the Federal Register on May 4, 2000.

DATES: Effective 0001 hours local time May 1, 2000 (May 16, 2000 for the “B” platoon), unless modified, superseded or rescinded, until the effective date of the 2001 annual specifications and management measures for the Pacific Coast groundfish fishery, which will be published in the Federal Register.

FOR FURTHER INFORMATION CONTACT: Katherine King or Yvonne deReynier, Northwest Region, NMFS, 206-526-6140.

SUPPLEMENTARY INFORMATION: On May 4, 2000, at 65 FR 25881, NMFS announced changes to trip limits in the Pacific Coast groundfish fishery. Tables 2, 3, 4, and 5 are being republished in a logical and readable format.

In Section IV, tables 2, 3, 4, and 5 are republished as follows:

BILLING CODE 3510-22-F

Dated: May 11, 2000.
Bruce C. Morehead,
Acting Director, Office of Sustainable Fisheries, National Marine Fisheries Service.

[FR Doc. 00-12425 Filed 5-16-00; 8:45 am]

BILLING CODE 3510-22-C